ENVIRONMENTAL PROTECTION AGENCY

[EPA-EPA-HQ-OAR-2006-0407; FRL-11703-01-OMS]

Agency Information Collection Activities; Submission to the Office of Management and Budget for Review and Approval; Comment Request; EPA's ENERGY STAR® Program in the Commercial and Industrial Sectors (Renewal)

AGENCY: Environmental Protection Agency (EPA).

ACTION: Notice.

SUMMARY: The Environmental Protection Agency (EPA) has submitted an information collection request (ICR), EPA's ENERGY STAR Program in the Commercial and Industrial Sectors (EPA ICR Number 1772.09, OMB Control Number. 2060-0347) to the Office of Management and Budget (OMB) for review and approval in accordance with the Paperwork Reduction Act. This is a proposed extension of the ICR, which is currently approved through January 31, 2024. Public comments were previously requested via the Federal Register on May 31, 2023, during a 60-day comment period. This notice allows for an additional 30 days for public comments.

DATES: Comments may be submitted on or before February 28, 2024.

ADDRESSES: Submit your comments to EPA, referencing Docket ID Number EPA-HQ-OAR-2006-0407 online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Cynthia Veit Maia, Climate Protection Partnerships Division, (5230A), Environmental Protection Agency, 1200 Pennsylvania Ave. NW, Washington, DC 20460; telephone number: 202-564-9494; fax number: 202-343-2204; email address: veitmaia.cynthia@epa.gov.

SUPPLEMENTARY INFORMATION: This is a proposed extension of the ICR, which is currently approved through January 31, 2024. An agency may not conduct or sponsor and a person is not required to respond to a collection of information unless it displays a currently valid OMB control number.

Public comments were previously requested via the Federal Register on May 31, 2023, during a 60-day comment period (88 FR 34855). This notice allows for an additional 30 days for public comments. Supporting documents that explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA created ENERGY STAR as a voluntary program to help businesses and individuals protect the environment through superior energy efficiency. The program focuses on reducing utility-generated emissions by reducing the demand for energy. In 1991, EPA launched the Green Lights Program to encourage corporations, State and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR awards program). EPA also makes tools and other resources available over the Web to help the public overcome the barriers to evaluating their energy performance and investing in profitable improvements.

To join ENERGY STAR, organizations are asked to complete a Partnership Application that establishes their commitment to energy efficiency. Partners agree to undertake efforts such as measuring, tracking, and benchmarking their organization's energy performance by using tools such as those offered by ENERGY STAR; developing and implementing a plan to improve energy performance in their facilities and operations by adopting a strategy provided by ENERGY STAR; educating staff and the public about their Partnership with ENERGY STAR, and highlighting achievements with the ENERGY STAR, where available.

Partners also may be asked to periodically submit information to EPA as needed to assist in program implementation.

Partnership in ENERGY STAR is voluntary and can be terminated by Partners or EPA at any time. EPA does not expect organizations to join the program unless they expect participation to be cost-effective and otherwise beneficial for them.

In addition, Partners and other interested parties can seek recognition and help EPA promote energy-efficient technologies by evaluating the efficiency of their buildings using EPA's online tools (e.g., Portfolio Manager) and applying for recognition. EPA does not expect any information collected under ENERGY STAR to be Confidential Business Information (CBI).

Form Numbers: 5900-19, 5900-195, 5900-197, 5900-198, 5900-22, 5900-262, 5900-263, 5900-264, 5900-265, 5900-382, 5900-383, 5900-387, 5900-436, 5900-441, 5900-442, 5900-443, 5900-444, 5900-445, 5900-89, 5900-622, 5900-623.

Respondents/affected entities: Participants in EPA's ENERGY STAR Program in the commercial and industrial sectors.

Respondent's obligation to respond: Voluntary.

Estimated number of respondents: 42,196 (total).

Frequency of response: One-time, annually, or on occasion.

Total estimated burden: 187,199 hours (per year). Burden is defined at 5 CFR 1320.03(b).

Total estimated cost: $14,810,511 (per year), includes $5,288,750 annualized capital or operation & maintenance costs.

Changes in the Estimates: There is a net decrease of 23,107 hours in the total estimated respondent burden compared with the ICR currently approved by OMB. This is a result of a 325-hour increase due to program changes and a 23,432-hour decrease due to adjustments.

Program changes reflect revisions to the array of activities EPA carries out under the ENERGY STAR Certification for Buildings. The adjustments are primarily related to the benchmarking process. While more buildings across the country are following Building Performance Standards, the time needed to benchmark each one is diminishing as the proportion of first-time respondents falls and their utilization of time-saving Web Services grows.

Courtney Kerwin,
Director, Information Engagement Division.

[FR Doc. 2024-01687 Filed 1-26-24; 8:45 am]

BILLING CODE 6560-50-P